DEPARTMENT OF TRANSPORTATION

Federal Aviation Administration

14 CFR Part 39

[Docket No. FAA-2005-21683; Directorate Identifier 2005-NM-021-AD; Amendment 39-14259; AD 2005-18-19]

RIN 2120-AA64

Airworthiness Directives; Fokker Model F27 Mark 200, 400, 500, and 600 Airplanes

AGENCY: Federal Aviation Administration (FAA), Department of Transportation (DOT).

ACTION: Final rule.

SUMMARY: The FAA is adopting a new airworthiness directive (AD) for certain Fokker Model F27 Mark 200, 400, 500, and 600 airplanes. This AD requires a general visual inspection of the rotary knobs for the fuel tank isolation valves to determine if the seal wire has been installed correctly, and corrective actions if necessary. This AD results from investigation of a recent accident, which found that the rotary knobs controlling the fuel tank isolating valves had been in the shut position. We are issuing this AD to ensure that the rotary knobs are not inadvertently moved to the shut position, which could result in fuel starvation to both engines and consequent inability to maintain controlled flight and landing.

DATES: This AD becomes effective October 14, 2005.

The Director of the Federal Register approved the incorporation by reference of a certain publication listed in the AD as of October 14, 2005.

ADDRESSES: You may examine the AD docket on the Internet at http://dms.dot.gov or in person at the Docket Management Facility, U.S. Department of Transportation, 400 Seventh Street, SW., Nassif Building, room PL-401, Washington, DC.

Contact Fokker Services B.V., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Fokker Model F27 Mark 200, 400, 500, and 600 airplanes. That NPRM was published in the Federal Register on June 29, 2005 (70 FR 37291). That NPRM proposed to require a general visual inspection of the rotary knobs for the fuel tank isolation valves to determine if the seal wire has been installed correctly, and corrective actions if necessary.

Correction to Final Rule

We have revised paragraph (h) of this Final Rule to correct an incorrect part number. We have determined that the incorrect part number does not exist.

Comments

We provided the public the opportunity to participate in the development of this AD. We received no comments on the NPRM or on the determination of the cost to the public.

Conclusion

We have carefully reviewed the available data, and determined that air safety and the public interest require adopting the AD with the change described previously. We have determined that this change will neither increase the economic burden on any operator nor increase the scope of the AD.

Costs of Compliance

This AD will affect about 1 airplane of U.S. registry. The required inspection will take about 2 work hours per airplane, at an average labor rate of $65 per work hour. Based on these figures, the estimated cost of the AD for the one U.S. operator is $130.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-18-19 Fokker Services B.V.: Amendment 39-14259. Docket No. FAA-2005-21683; Directorate Identifier 2005-NM-021-AD.

Effective Date

(a) This AD becomes effective October 14, 2005.

Affected ADs

(b) None.

Applicability

(c) This AD applies to Fokker Model F27 Mark 200, 400, 500, and 600 airplanes, certificated in any category; serial numbers 10505 through 10591 inclusive; not equipped with inboard wing fuel tanks.

Unsafe Condition

(d) This AD was prompted by investigation of a recent accident, which found that the rotary knobs controlling the fuel tank isolating valves had been in the shut position. We are issuing this AD to ensure that the rotary knobs are not inadvertently moved to the shut position, which could result in fuel starvation to both engines and consequent inability to maintain controlled flight and landing.

Compliance

(e) You are responsible for having the actions required by this AD performed within the compliance times specified, unless the actions have already been done.

Inspection and Corrective Action if Applicable

(f) Within 3 months after the effective date of this AD, do a general visual inspection of the rotary knobs for the fuel tank isolation valves to determine if the seal wire is installed correctly and do the corrective action(s) as applicable, in accordance with the Accomplishment Instructions of Fokker Service Bulletin F27/28-67, dated February 23, 2004. Do the applicable corrective actions before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Credit for Alternative Method of Compliance

(g) Actions done before the effective date of this AD in accordance with Fokker Service Bulletin F27/28-58, dated May 12, 1986, are acceptable for compliance with the requirements of paragraph (f) of this AD.

Parts Installation

(h) As of the effective date of this AD, no person may install a rotary knob having part number E10632-3, 10632-10003, or P80-004 on any airplane, unless the corrective actions specified in paragraph (f) of this AD have been accomplished.

No Reporting Requirement

(i) Although the service bulletin referenced in this AD specifies to submit certain information to the manufacturer, this AD does not include that requirement.

Alternative Methods of Compliance (AMOCs)

(j) The Manager, International Branch, ANM-116, Transport Airplane Directorate, FAA, has the authority to approve AMOCs for this AD, if requested in accordance with the procedures found in 14 CFR 39.19.

Related Information

(k) Dutch airworthiness directive NL-2004-037 R1, dated April 14, 2005, also addresses the subject of this AD.

Material Incorporated by Reference

(l) You must use Fokker Service Bulletin F27/28-67, dated February 23, 2004, to perform the actions that are required by this AD, unless the AD specifies otherwise. The Director of the Federal Register approved the incorporation by reference of this document in accordance with 5 U.S.C. 552(a) and 1 CFR part 51. Contact Fokker Services B.V., P.O. Box 231, 2150 AE Nieuw-Vennep, the Netherlands, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on August 31, 2005.
Kalene C. Yanamura,
Acting Manager, Transport Airplane Directorate, Aircraft Certification Service.

[FR Doc. 05-17771 Filed 9-8-05; 8:45 am]

BILLING CODE 4910-13-P